U.S. INTERNATIONAL DEVELOPMENT FINANCE CORPORATION

Sunshine Act Meeting Notice

TIME AND DATE: Wednesday, January 21, 2026 10:00 a.m. (OPEN Portion); 10:30 a.m. (CLOSED Portion).

PLACE: Offices of the Corporation, Twelfth Floor Board Room, 1100 New York Avenue NW, Washington, DC.

STATUS: Parts of this meeting will be open to the public. The rest of the meeting will be closed to the public.

MATTERS TO BE CONSIDERED:

1. Opening Remarks

2. Public Comment

FURTHER MATTERS TO BE CONSIDERED: (Closed to the Public 10:30 a.m.)

1. Direct Loan/PRI—Middle East

2. PRI Project—Africa

3. PRI Project—Africa

4. Administrative Matters and Reports

Attendance at the Open Portion of the Meeting: Members of the public planning to virtually attend the open portion of the Board meeting are asked to register. To attend, present at, or submit a written statement to the Board prior to the virtual public hearing, individuals must register with DFC Corporate Secretary Heather Carroll at corporate.secretary@dfc.gov by 5:00 p.m. EST, Wednesday, January 14, 2026.

CONTACT PERSON FOR MORE INFORMATION: Agenda subject to change. Information on the meeting may be obtained from the Corporate Secretary via email at CorporateSecretary@dfc.gov.

Dated: January 14, 2026.
Lisa Wischkaemper,
Administrative Counsel, U.S. International Development Finance Corporation.

[FR Doc. 2026-00942 Filed 1-15-26; 11:15 am]

BILLING CODE 3210-01-P